DEPARTMENT OF HEALTH AND HUMAN SERVICES

Announcement of Availability of Funds for Adolescent Family Life (AFL) Demonstration Projects

AGENCY: Department of Health and Human Services, Office of the Secretary.

Funding Opportunity Title: Announcement of Availability of Funds for Adolescent Family Life (AFL) Demonstration Projects.

CFDA Number: 93.995.

Announcement Type: Initial Competitive Grant.

DATES: To receive consideration, applications must be received by the Office of Grants Management, Office of Public Health and Science (OPHS), Department of Health and Human Services (DHHS) c/o WilDon Solutions, Office of Grants Management Operations Center, 1515 Wilson Blvd., Third Floor Suite 310, Arlington, VA 22209, Attention Office Population Affairs/Office of Adolescent Pregnancy Programs no later than 5 p.m. eastern time on June 1, 2007. The application due date requirement in this announcement supercedes the instructions in the OPHS-1 form.

Overview: The Office of Population Affairs (OPA), Office of Adolescent Pregnancy Programs (OAPP), requests applications for evaluation-intensive Adolescent Family Life (AFL) prevention demonstration grants, as authorized by Title XX of the Public Health Service (PHS) Act, 42 U.S.C. 300z. et seq. These grants are for prevention demonstration projects to provide and evaluate innovative abstinence education activities and services targeting youth ages 9-18 and their parents. Under this announcement, the OAPP is expecting intensive evaluations of the demonstration projects it supports. To this end, the OAPP is requesting applications from projects that have dedicated 20-25% of the proposed budget to evaluation activities. Applicants that do not propose an intensive evaluation and/or 20-25% of their budget for evaluations activities will receive a low score on the evaluation criterium when reviewed by the external review panel (see “Application Review Information” section).

In addition, successful applicants will plan on tracking program participants for at least two years, subject to the availability of funds. An appropriate randomized control design or rigorous quasi-experimental design should be proposed.

All AFL prevention demonstration projects must provide “abstinence education” as defined in section 510(b)(2)(A)-(H) of the Title V of the Social Security Act (“the A-H criteria”). Therefore, prevention demonstration projects must clearly and consistently promote premarital abstinence as the only 100% effective way of preventing adolescent pregnancy and sexually transmitted infections (STIs), including HIV/AIDS. Funds will be available for approximately 20 projects, which may be located in any State, the District of Columbia, and United States territories, commonwealths and possessions. Faith-based and community-based organizations are encouraged to apply.

These grants are for community-based demonstration projects to find effective means, within the context of the family, to promote premarital abstinence. Abstinence education, delivered through a combination of curricula that conform to the A-H criteria, and supportive activities and services that are proven to motivate youth in healthy decision making, can be an effective way to deliver a clear message that abstinence is the best choice. Supporting parents in their role as the primary educators of their children on issues involving sexuality, particularly the health and social benefits of abstinence, is also an important component of AFL prevention demonstration projects. See headings “Prevention Services” and “Supportive Activities and Services” for additional information.

When explaining the rationale for the proposed demonstration model, successful applicants will describe their experience with other youth prevention programs, including experience with state, local or Federal abstinence education grant programs. In particular, successful program models will base their proposed AFL prevention demonstration project on experiences and “lessons learned” from previous youth oriented activities and services.

In this funding announcement, the OAPP is placing strong emphasis on the evaluation of the demonstration projects it supports. Applications under this announcement are expected to include a clear and fully developed evaluation plan. The proposed evaluation team's experience, specifically related to conducting program evaluation using randomized experimental or quasi-experimental design, should be stated. A strong evaluation plan should include a commitment and description of capacity to track program participants for at least two years; address both capacity and intent to use the AFL prevention core evaluation instrument; and address both capacity and intent to participate in the cross-site evaluation of the AFL program scheduled to begin in August 2008. Capacity to participate in the cross-site evaluation will entail a rigorous evaluation design, high quality data collection procedures, and the ability to deliver data to OAPP for inclusion in cross-site analyses.

Please note, successful applicants will also ensure that program staff are prepared to address issues of sexual coercion and exploitation of young teens. In addition, areas of the country with high incidences of adolescent pregnancy, sexually transmitted infections, poverty rates, as well as existing gaps in services for youth, will receive special consideration. Populations and areas of the country not currently receiving Title XX funding for prevention programs will receive special consideration. If there are multiple applicants from one State, agency collaboration is encouraged. Please note, the Deputy Assistant Secretary for Population Affairs (DASPA) may elect to award one grant per State. Under this announcement, former AFL grantees and AFL prevention grantees currently in their fourth and fifth year of funding are eligible to apply; all other current AFL grantees are considered ineligible. See headings “Prevention Services” and “Supportive Activities and Services” for additional information.

I. Funding Opportunity Description

Prevention Services

Under the Title XX statute, the primary purpose of AFL prevention demonstration programs is to find effective means, within the context of the family, of reaching pre-adolescent and adolescent children before they become sexually active to encourage them to abstain from premarital sexual activity. (The OAPP also encourages reaching out to those adolescents who may have already become sexually active to encourage them to return to abstinence and support them in doing so.) Early initiation of sexual activity brings not only the risk of adolescent pregnancy, but also substantial health risks, primarily STIs, including HIV/AIDS. Adolescent sexual activity is also associated with a host of other problems, such as poor school performance, delinquency, substance use and depression.

Prevention demonstration program activities and services must be consistent with the definition of “abstinence education,” as set out in section 510(b)(2)(A)-(H) of Title V of the Social Security Act, as amended. Proposed program activities and services, whether educational or supportive, should address at least one component of this definition. In addition, the program as a whole must adequately address all 8 of the A-H criteria. Please note, acceptable individual activities and services may address one or more of the A-H criteria. (See “A-H Compliance Strategies” chart in the application kit). Under this announcement, “abstinence education” means an educational or motivational program which:

(A) Has as its exclusive purpose, teaching the social, psychological, and health gains to be realized by abstaining from sexual activity;

(B) Teaches abstinence from sexual activity outside marriage as the expected standard for all school age children;

(C) Teaches that abstinence from sexual activity is the only certain way to avoid out-of-wedlock pregnancy, sexually transmitted diseases, and other associated health problems;

(D) Teaches that a mutually faithful monogamous relationship in context of marriage is the expected standard of human sexual activity;

(E) Teaches that sexual activity outside of the context of marriage is likely to have harmful psychological and physical effects;

(F) Teaches that bearing children out-of-wedlock is likely to have harmful consequences for the child, the child's parents, and society;

(G) Teaches young people how to reject sexual advances and how alcohol and drug use increases vulnerability to sexual advances; and

(H) Teaches the importance of attaining self-sufficiency before engaging in sexual activity.

Projects must provide services that help pre-adolescents and adolescents acquire knowledge and skills that will instill healthy attitudes, as well as provide services that encourage and support abstinence from premarital sexual activity. Under the statutory requirements of Title XX, applicants for prevention programs are not required to provide any specific array of services. However, OAPP encourages the submission of applications which focus on educational services relating to family life and which teach the social, psychological, and health gains to be realized by abstaining from sexual activity. The legislation also permits a proposal to include any one or more of the following services as appropriate:

(1) Educational services relating to family life and problems associated with adolescent premarital sexual relations including:

(a) Information about adoption,

(b) Education on the responsibilities of sexuality and parenting,

(c) The development of material to support the role of parents as the providers of sex education, and

(d) Assistance to parents, schools, youth agencies and health providers to educate adolescents and pre-adolescents concerning self-discipline and responsibility in human sexuality;

(2) Appropriate educational and vocational services;

(3) Counseling for the immediate and extended family members of the eligible person;

(4) Transportation;

(5) Outreach services to families of adolescents to discourage sexual relations among unemancipated minors; and

(6) Nutrition information and counseling.

Supportive Activities and Services

In order to remain abstinent until marriage, pre-adolescents and adolescents need to acquire capacity building, coping, and self-sufficiency skills that enable them to remain abstinent in the present and to continue making healthy decisions as they transition into adulthood. Therefore, effective programs take into account how youth physically and emotionally develop and how this translates into appropriate educational and supportive services. In addition to abstinence education, research shows that building upon positive factors (or assets) in the lives of young people protects youth from many risky behaviors, including sexual activity. Strengthening these factors will help motivate youth to remain abstinent from sexual activity. Therefore, successful applicants will propose approaches that will strengthen youth assets and implement activities and services that address the developmental needs of the target population. Such approaches place considerable emphasis on helping youth to develop their assets and to focus on where youth are going, helping them to develop belief in a positive future and belief in their ability to take actions that will achieve that future—and also to avoid actions that will jeopardize it. Some program components typically employed in this approach include mentoring, tutoring, sports, cultural activities, and community service. All aspects of the proposed prevention demonstration project must motivate youth to remain abstinent until marriage, must support and be consistent with the definition of “abstinence education” as set out in the A-H criteria, and must be within the scope of Title XX prevention services.

Sexual Exploitation

Among young people ages 15 to 24 in 2002, 13 percent of females and 5 percent of males reported that their first sexual experience occurred at age 15 or younger with an individual who was three or more years older. More than one in four children born to mothers between the ages of 15 and 17 were fathered by someone five or more years older. Successful AFL prevention demonstration applicants should thoroughly describe current and proposed efforts to prevent sexual coercion and exploitation of teens by older partners, as well as management and reporting that comply with State reporting laws regarding child sexual abuse, sexual assault (including statutory rape), incest, or family violence. These efforts should include staff training on how to handle abuse/coercion disclosures appropriately, the responsibilities as a mandatory reporter, as well as overall sensitivity to the issue (of nonconsensual sexual activity among youth who otherwise would be abstinent) in program activities, services and curricula. For more information, applicants may access the Child Welfare Information Gateway formerly the National Clearinghouse on Child Abuse and Neglect Information at http://www.childwelfare.gov.

Parental Involvement

Supporting parents in their role as the primary educators of their children on issues involving sexuality, particularly the importance of premarital abstinence, can be an effective way to strengthen a prevention intervention. Research has shown the importance of parental involvement and open communication between parent and child in the prevention of adolescent sexual activity. Parental involvement and communication include monitoring and boundary setting, as well as clearly transmitting values and beliefs.

Targeted services and resources that strengthen parental capacity to help their child avoid sexual activity and other risk behaviors can take many forms: Parent workshops or training sessions; education newsletters; home based videos; or homework assignments for parents and children to complete together. Program content should reflect specific needs of the population to be served and might include information on parenting practices, communication skills, family life and problem solving strategies, or adolescent development. It is essential that programs effectively communicate to parents the benefits of abstinence to the health and well-being of their children. All programming for parents must be consistent with the A-H criteria.

Helping young people successfully negotiate adolescence and avoid premarital sexual activity, as well as other health risk behaviors, requires not only educating and motivating them—it also requires ensuring that they have adequate support systems to put what they learn into practice. Stronger families, enhanced competencies and meaningful ties to the community can provide considerable assistance in achieving this. To that end, the OAPP strongly encourages applicants to incorporate activities and services that foster youth assets and motivate youth to remain abstinent, and to include components that emphasize strong and viable parental involvement.

Curricula Review

The grantee shall submit all curricula and educational materials for use in the AFL project, whether currently available or to be developed by the grantee, to the OAPP for review and approval prior to use in the project. The review shall ensure that all the information provided to the program participants is medically accurate; consistent with Title XX policies on religion; in compliance with the statutory prohibitions against advocating, promoting, encouraging, or providing abortions; and consistent with the definition of “abstinence education,” as set out in section 510(b)(2) of Title V of the Social Security Act, as amended.

Note: Curricula and educational materials should be identified for this application. Review and approval of curricula and other educational materials are not done until an application is approved for funding. Successful approval of a grant application does not indicate approval of curricula and educational materials for use in a funded project.

Goals and Objectives

The Office of Adolescent Pregnancy Programs (OAPP) has two cross-site performance measures for AFL prevention demonstration programs: (1) Increase the involvement of parents in the lives of their children; and (2) Increase adolescents' understanding of the positive health and emotional benefits of abstaining from premarital sexual activity. All grantees will be responsible for reporting on these two performance measures by using the required AFL prevention core instrument. The applicant should include two program outcome objectives addressing these two performance measures. Please note, up to four additional programmatic outcome objectives can be proposed using additional data collection instruments. Applications that include measures of program effects at 2-year follow-up on sexual activity are preferred. All programmatic outcome objectives should be encompassed by an overarching program goal.

A goal is a general statement of what the project hopes to accomplish. It should reflect the long-term desired impact of the project on the target group(s) as well as reflect the program goals contained in this program announcement. An outcome objective is a statement which defines a measurable result that the project expects to accomplish (e.g., decrease in sexual activity among the treatment group, increase in intent to remain abstinent among the treatment group). All outcome objectives, including the two outcome objectives addressing the above cross-site performance measures, should be described in terms that are specific, measurable, achievable, realistic, and time-framed (S.M.A.R.T.).

Specific: An objective should specify one major result directly related to the program goal, state who is going to be doing what, to whom, by how much, and in what time-frame. It should specify what will be accomplished and how the accomplishment will be measured.

Measurable: An objective should be able to describe in realistic terms the expected results and specify how such results will be measured.

Achievable: The accomplishment specified in the objective should be achievable within the proposed time line and as a direct result of program activities and services.

Realistic: The objective should be reasonable in nature. The specified outcomes, expected results, should be described in realistic terms.

Time-framed: An outcome objective should specify a target date or time for its accomplishments. It should state who is going to be doing what, by when, etc. The Public Management Institute, How to Get Grants (1981).

Intensive Evaluation Effort

Section 2006(b)(1) of Title XX requires each grantee to expend at least one percent, but not more than five percent, of the Federal funds received under Title XX on evaluation of the project. In cases in which a more rigorous or comprehensive evaluation effort is proposed, waivers of the five percent limit on evaluation may be granted by OAPP (see sec. 2006(b)(1)). This is the fourth funding cycle in which the OAPP is placing strong emphasis on the evaluation of the demonstration projects it supports. To that end, it is continuing to request applications for evaluation-intensive projects, and will waive the five percent limit on grant funds for those projects. Under this announcement, the OAPP is requesting applications for evaluation-intensive projects that have a strong evaluation design and evaluation plan utilizing 20-25% of total grant funds. In addition, OAPP strongly encourages applicants to be able to track program participants for at least two years and to propose a randomized control design in evaluating project outcomes. Commensurate with this increased funding for evaluation, the OAPP expects applications to include a clear and fully developed evaluation plan. Evaluation plans that are not evaluation-intensive, according to the following criteria, will be scored accordingly during the grant review process.

1. Evaluations will be directly tied to program objectives and displayed in a logic model. Research hypotheses will be clearly stated and reflect the outcomes the program intends to achieve.

2. Evaluations will include a process or implementation evaluation. Evaluations in their first year will focus on determining that the intervention is in place, that it is adequately and appropriately staffed and that it is reaching its intended population.

3. Evaluations will have a viable comparison strategy. Ideally, a true experimental design with random assignment will be proposed. For programs targeting schools, applicants are encouraged to select a pool of schools as potential program sites and include data, in the application, describing the characteristics of each school. Applicants are also encouraged to submit letters from each school principal committing to participate in the evaluation if their school is randomly assigned to either the treatment or control group. In cases where an experimental design is not possible, a rigorous quasi-experimental design with matched comparison group(s) would be acceptable.

4. Evaluations will have sufficient sample size to ensure that any observed differences between groups are statistically significant. Inclusion of power analysis to support the sample size is recommended.

5. Evaluations will measure dosage. Youth participation and use of various service components must be carefully tracked so that any differences can be corrected for, or at least taken into account in discussion of evaluation results. Treatment and comparison group respondents who complete baseline data collection should be re-surveyed in order to allow for 2 or more years of follow-up (wherever possible).

6. Evaluations will include evaluation training activities for program staff and specific data collection procedures for the research assistant. It is expected that a research assistant will be budgeted as part of the program staff to handle data collection procedures.

7. Evaluations will employ adequate data collection procedures. They will include the assurance of confidentiality, obtaining active parental consent and client assent to participate in the survey, and planning for survey administration that minimizes bias.

8. Evaluations will employ appropriate analytic methods.

9. Evaluations will include a follow-up assessment of program participants at least six months after the intervention being tested ends. Including follow-up at 12 months and 24 months after baseline data collection will greatly strengthen an application. This follow-up assessment should be in the same format as the pre- and post-testing instrumentation.

10. Evaluations will include a plan to disseminate and publish the evaluation findings by the end of the fifth year of funding.

Section 2006(b)(2) of Title XX requires that evaluations of AFL demonstration projects be conducted by an organization or entity independent of the grantee providing services. To accomplish this, applicants should collaborate with an evaluator affiliated with a college or university located in their State. The OAPP expects each AFL demonstration project to establish a strong relationship with its evaluator and that this relationship be clearly established prior to funding. The successful applicant will work with the evaluator as the application is being prepared to ensure that the evaluation plan addresses the proposed project's goals and objectives and meets the evaluation criteria specified above. A letter of commitment from the evaluator along with his or her curriculum vitae should be included in the appendix of the application. Successful applicants will select an evaluator with experience in tracking participants long-term and conducting random assignment.

The AFL Prevention Core evaluation instruments have been developed for use in AFL prevention demonstration project evaluations. The prevention instruments were designed to reflect requirements in the Title XX statute, the A-H criteria for abstinence education, and the two OAPP cross-site performance measures. The Office of Management and Budget has approved these instruments and all AFL demonstration projects funded in fiscal year 2004 and beyond are required to include them in their evaluation design. Prevention demonstration projects funded under this announcement will be included in this requirement. The OAPP recognizes that additional instruments are necessary to measure additional outcome objectives proposed and encourages their use to supplement the core instrument. Copies of the AFL Prevention core instruments required for use in these projects can be found at: http://opa.osophs.dhhs.gov/titlexx/coreinstruments/. Please note that these instruments may be revised by OAPP to incorporate future improvements.

Another important component of OAPP's focus on evaluation is the planning and preparation for a formal cross-site evaluation of AFL demonstration projects. It is anticipated that data collection for the cross-site evaluation, employing the core evaluation instruments discussed above, will begin in August 2008. Projects funded under this announcement will be part of the pool to be included in the cross-site evaluation. Successful applicants will address both capacity and intent to participate in this cross-site evaluation.

All proposed prevention demonstration applicants should provide information regarding the evaluation outcomes of previous programs and should discuss how these findings relate to the currently proposed demonstration model. Previous applicant experience with youth services and “lessons learned” from these programs should be included.

II. Award Information

This notice announces the availability of $7.5 million to support an estimated 20 new prevention demonstration grants, funded at $300,000 to $400,000 per budget year (maximum five budget years per grant cycle). Any application that proposes funding over the maximum of $400,000 will not be considered. The OAPP expects that 20-25% of the budget be allotted for evaluation activities. Funding for all approved budget periods beyond the first year of the grant is contingent upon the availability of funds, satisfactory progress of the project, and adequate stewardship of Federal funds.

Please note, in fiscal year (FY) 2004, OAPP issued a similar Request for Applications (RFA) announcing approximately $3.5 million for new abstinence education prevention demonstration projects. In response to that RFA, OAPP received 161 grant applications and was able to fund only 14 new projects.

III. Eligibility Information

1. Eligible Applicants

Any public or private nonprofit organization or agency is eligible to apply for a grant. However, only those organizations or agencies that demonstrate the capability of providing and thoroughly evaluating the proposed services and which meet the statutory requirements will be considered for grant awards. Faith-based and community-based organizations are encouraged to apply for AFL grants. Please note, however, that AFL funds may not be used for inherently religious activities, such as worship, religious instruction, and proselytization. If an organization engages in such activities, they must be offered separately in time or location from the program funded under the AFL program and participation must be voluntary for program beneficiaries. An AFL program, in providing services and outreach related to program services, cannot discriminate against current or prospective program beneficiaries on the basis of religion, a religious belief, a refusal to hold a religious belief, or a refusal to actively participate in a religious practice. Please also note that all adolescents, regardless of race or religion, shall be eligible to participate in an AFL program.

Applications will be accepted from organizations which are currently operating AFL prevention demonstration programs that are completing their funding cycle as of September 2007, or June 2008, if modifications are made to enhance services for a new demonstration project according to the guidelines specified in this announcement. Current AFL prevention demonstration grantees that are not ending their grant cycles by these dates are not eligible to apply for these funds.

2. Cost Sharing

Applicants funded under this announcement will be required to match Federal funding provided by the OAPP. Section 2005(c)(2) of Title XX states that an AFL grant award may not exceed 70% of the total costs of the project for the first and second years, 60% of the total costs for the third year, 50% for the fourth year and 40% for the fifth year. The AFL non-Federal share of the project costs may be provided in cash expenditures or fairly evaluated in-kind contributions, including facilities, equipment and services.

Note that the HHS Grants Policy Statement provides that: “Recipient contributions may be derived from any non-Federal source; from Federal sources if received as fees, payments, or reimbursements for the provision of a specific service, such as patient care reimbursements received under Medicare or Medicaid; or from other program income, if authorized by [HHS]. Otherwise, unless there is specific statutory authority, Federal funds may not be used to match HHS grant funds.”

IV. Application and Submission Information

1. Address To Request Application Package

Application kits may be obtained by accessing Grants.gov at http://www.grants.gov or the Grant Solutions system at http://www.GrantSolutions.gov. To obtain a hard copy of the application kit, contact WilDon Solutions at 1-888-203-6161. Applicants may fax a written request to WilDon Solutions at (240) 453-8823 or e-mail the request to OPHSgrantinfo@teamwildon.com. Applications must be prepared using Form OPHS-1, which can be obtained at the Web sites noted above.

2. Content and Form of Application Submission

In preparing the application, it is important to follow ALL instructions and public policy requirements provided in the application kit. Applications must be submitted on the forms supplied (OPHS-1, Revised 03/2006) and in the manner prescribed in the application kits provided by the OAPP. Applicants are required to submit an application signed by an individual authorized to act for the applicant agency or organization and to assume for the organization the obligations imposed by the terms and conditions of the grant award. The program narrative must be printed on 8½ by 11 inch white paper, with one-inch margins, double-spaced with an easily readable 12-point font. All pages must be numbered sequentially not including appendices and required forms. The program narrative should not exceed 50 double-spaced pages, not including appendices and required forms. All pages, figures and tables must be numbered sequentially. Do not staple or bind the application package. Use rubber bands or clips.

The narrative description of the project must contain the following using the specified page limits:

One-page Summary: Briefly provide a statement of the proposed demonstration project indicating that it is a prevention demonstration project and whether it is for a local or statewide project; type of organization applying (school, state agency, voluntary agency, etc.); geographic area to be served (urban, rural, suburban); description of target population to be served; brief description of the proposed prevention demonstration project; and brief description of the evaluation-intensive design.

Description of Applicant Organization (1-2 pages): Describe the decision-making authority and structure (e.g. relationship to the Board of Directors and organizational chart), its resources, experience, existing program units and/or those to be established if funding is obtained. This description should cover personnel, time and facilities and contain evidence of the organization's capacity to provide the rapid and effective use of resources needed to conduct the project, collect necessary data and evaluate it. It is recommended that applicants place an organizational chart in the Appendices.

Need Statement (3 pages): Describe the need for prevention services in the proposed target area by describing the geographic area to be served. Document the incidence of adolescent pregnancy, sexually transmitted infections, a description of socio-economic conditions including income levels, existing services and unmet needs in the proposed service area. If the proposed population has unique challenges and barriers, these should be addressed as well.

Rationale (2-4 pages): Describe the rationale for use of the proposed approach based upon previous practice and review of the literature and/or evaluation findings. This section should include discussion of previous youth service experience and how lessons learned from this experience helped develop the rationale for the proposed demonstration model. All previous AFL grantees should clearly describe their program and evaluation experience as it relates to past AFL funding.

Program Outcome Objectives (4 pages): Provide a goal and 4-6 outcome objectives that clearly state expected results or benefits of the demonstration project. Two of the outcome objectives must address the required OAPP cross-site performance measures. Objectives should be specific, measurable, achievable, realistic, and time-framed. Please see “Evaluation” section for more information.

Prevention Services Demonstration Model (8-10 pages): Thoroughly describe proposed program intervention activities and services as they relate to the outcome objectives by describing the project logic model. This section should include a description of all proposed curricula, types of supportive asset building and youth development activities and services proposed as part of the model, and a description of the parental involvement component. It should also include a clear plan for recruitment and retention of program participants, including parents. This description should clearly relate to program objectives and should address intensity of services (dosage). All components of the intervention must be consistent with the A-H definition of abstinence education. How the project will address the issue of sexual exploitation and coercion should also be included.

Workplan and Timetable (1 page): Provide a year long detailed work plan and timetable for the first year. Within this plan include each program activity associated with the project and the proposed time frame for the start and completion of each activity. A separate and more generalized work plan should be included in the appendices for the 2nd and 3rd year of program implementation.

Numbers and Types of Participants (2 pages): Provide estimates of who the project will serve and how many will be participating in the proposed demonstration project. Please describe how many participants are expected to participate during the first year and break out the types of participants into categories (e.g. pre-adolescents, adolescents and parents), including the race and ethnicity of participants to be served.

Documentation of Community Support and Commitment (1-2 pages): Provide documentation of the support from other community agencies. If a community agency is partnering with the applicant to implement the proposed prevention demonstration project, a letter of commitment detailing the level of effort and commitment to this effort must be included.

Continuation Funding (1 page): Describe the plan regarding continuation of services at the termination of this Federal funding opportunity. The OAPP cannot guarantee that funding will be available annually or at the end of the five-year grant cycle.

Evaluation Plan (15-20 pages): Provide a clear and fully developed evaluation plan in accordance with the criteria laid out under the “Evaluation” section of this announcement. Include a letter of commitment and curriculum vitae from the independent evaluator in the appendices, how the AFL prevention core instruments will be included in the evaluation plan, and the understanding of the proposed project, if funded by OAPP, will participate in a formal cross site evaluation of the AFL program. Applicants are encouraged to identify anticipated problems with the evaluation and recommended solutions. Inclusion of a proposed 2-year follow-up based on randomized assignment will greatly strengthen an applicant's evaluation plan.

Appendices: Include: (1) Articles of incorporation and mission statement for private nonprofit organizations; (2) Resumes of key staff and detailed position descriptions; (3) A program logic model that ties project objectives and intervention activities and services to expected results; (4) A description of how the A-H criteria are addressed in the project curricula and supportive activities and services in chart format (see “A-H Compliance Strategies” chart in the application kit for a suggested format); (5) A description of how the project will obtain parental consent including a copy of the proposed parental consent form, if developed; (6) Letters of commitment from partnering agencies; (7) Letters of support from other community agencies; (8) A letter of commitment and/or a memorandum of understanding with the independent evaluator affiliated with a college or university located in the applicant's State that includes willingness to participate and their role(s) described; (9) A copy of the curriculum vitae of the independent evaluator; (10) Copies of the table of contents of the proposed curricula, plus a list of any other instructional materials that will be an integral part of the proposed project; and (11) the workplan and timetable for years 2 and 3 of the proposed project. Please note, applicants must be familiar with Title XX in its entirety to ensure that they have complied with all applicable requirements. In addition, applicants must incorporate the definition of “abstinence education,” as set out in section 510(b)(2) of Title V of the Social Security Act, as amended, and ensure program activities and services are consistent and supportive of this language. A copy of both sets of legislation is included in the application kit.

A Dun and Bradstreet Universal Numbering System (DUNS) number is required for all applications for Federal assistance. Organizations should verify that they have a DUNS number or take the steps necessary to obtain one. Instructions for obtaining a DUNS number are included in the application package, and may be downloaded from the OPA Web site (opa.osophs.dhhs.gov/duns.html).

3. Submission Dates and Times

To be considered for review, applications must be received by the Office of Public Health and Science, Office of Grants Management, c/o WilDon Solutions, by 5 p.m. Eastern Time on June 1, 2007. Applications will be considered as meeting the deadline if they are received on or before the deadline date. The application due date requirement in this announcement supercedes the instructions in the OPHS-1 form.

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management, c/o WilDon Solutions (1101 Wootton Parkway, Suite 550, Rockville, MD 20852) no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, c/o WilDon Solutions, and if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above. Mail-in items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management, c/o WilDon Solutions, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-in items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management, c/o WilDon Solutions, on or before 5 p.m. Eastern Time on the deadline date specified in the DATES section of the announcement. The application deadline date requirement specified in this announcement supersedes the instructions in the OPHS-1. Applications that do not meet the deadline will be returned to the applicant unread.

4. Intergovernmental Review

Applications for AFL grants must meet both of the following requirements (each year):

(1) Requirements for Review of an Application by the Governor. Section 2006(e) of Title XX requires that each applicant shall provide the Governor of the State in which the applicant is located a copy of each application submitted to OAPP for a grant for a demonstration project for services under this Title. The Governor has 60 days from the receipt date in which to provide comments to the applicant. An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC Requirements). Applications under this announcement are subject to the review requirements of E.O. 12372, “Intergovernmental Review of Federal Programs,” as implemented by 45 CFR part 100, “Intergovernmental Review of Department of Health and Human Services Programs and Activities.” E.O. 12372 sets up a system for state and local government review of proposed Federal assistance applications. As soon as possible, the applicant (other than federally-recognized Indian tribal governments) should contact the State Single Point of Contact (SPOC) for each state in the area to be served. The application kit contains the currently available listing of the SPOCs which have elected to be informed of the submission of applications. For those states not represented on the listing, further inquiries should be made by the applicant regarding submission to the relevant SPOC. Information about the SPOC is located on the OMB Web site http://www.whitehouse.gov/omb/grants/spoc/html. The SPOC's comment(s) should be forwarded to the OPHS Office of Grants Management, 1101 Wootton Parkway, Suite 550, Rockville, MD 20852. The SPOC has 60 days from the closing date of this announcement to submit any comments.

5. Funding Restrictions

Budget Request: If the total federal amount requested exceeds $400,000 then the application will be considered non-responsive and will not be entered into the review process. The application will be returned with notification that it did not meet the submission requirements.

Grant funds may be used to cover costs of: Personnel, consultants, equipment, supplies, grant-related travel, and other grant-related costs. Grant funds may not be used for: building alterations or renovations, construction, fund raising activities, and political education and lobbying. Guidance for completing the application can be found in the Program Guidelines, which are included with the complete application kits.

Applicants for discretionary grants are expected to anticipate and justify their funding needs and the activities to be carried out with those funds in preparing the budget and accompanying narrative portions of their applications. The basis for determining the allowability and allocability of costs charged to Public Health Service (PHS) grants is set forth in 45 CFR parts 74 and 92. If applicants are uncertain whether a particular cost is allowable, they should contact the OPHS Office of Grants Management at (240) 453-8822 for further information.

6. Other Submission Requirements

Organizations applying for funds under the AFL Demonstration Projects Program must submit documentation of nonprofit status with their applications. If documentation is not provided, the applicant will be considered non-responsive and will not be entered into the review process. The organization will be notified that the application did not meet the submission requirements.

Any of the following serves as acceptable proof of nonprofit status:

• A reference to the applicant organization's listing in the Internal Revenue Service (IRS) most recent listing of tax-exempt organizations described in section 501(c)(3) of the IRS Code.

• A copy of a currently valid IRS tax exemption certificate.

• A statement from a State taking body, State Attorney General, or other appropriate State official certifying that the applicant organization has a nonprofit status and that none of the net earnings accrue to any private shareholders or individuals.

• A certified copy of the organization's certificate of incorporation or similar document that clearly establishes nonprofit status.

• Any of the above proof for a State or national organization and a statement signed by the parent organization that the applicant organization is a local nonprofit affiliate.

V. Application Review Information

1. Criteria

Eligible competing grant applications will be externally reviewed by a multi-disciplinary panel of independent reviewers and subsequently reviewed by Federal staff. All competing grant applications will be assessed according to the following criteria:

(1) Evaluation Plan. The applicant's presentation of a detailed evaluation plan, as described in the “Evaluation” section of this announcement, that is directly tied to program objectives and includes: A process or implementation evaluation; a viable comparison strategy; sufficient sample size; measurement of dosage; appropriate data collection procedures; appropriate multivariate analytic methods; a plan to ensure adequate response rates among both treatment and comparison group respondents at all waves of data collection; and a plan for disseminating findings by the fifth year of funding, including submission to peer-reviewed journals. Additionally, discuss how the AFL core evaluation instruments will be included in the evaluation plan, and the applicant's commitment to participate in a formal cross-site evaluation of the AFL program. Demonstrate the evaluator's capacity to conduct the evaluation and disseminate the findings. (35 points)

(2) Program Model. The applicant's presentation of a theory-based rational for the proposed approach that includes current literature on how youth remain abstinent from sexual activity and are supported in this decision. Based on this rationale, the thorough description of the proposed program model (or approach) should include the applicant's clear statement of mission, goals, measurable outcome objectives, and a thorough description of the reasonable methods for achieving the objectives (program activities), including a reasonable workplan and timetable. The program model should also include a clear description of the parent component, as well as how the program will address the issue of potential sexual exploitation of youth through insuring appropriate staff training and pertinent program materials. All educational and supportive activities and services proposed in this project should address and support the A-H abstinence education definition, and be consistent with the Title XX statute. A description in the narrative as well as a complete chart in the appendices (example included in application kit) of how the program model will incorporate A-H in the educational and supportive activities and services should be included. (25 points)

(3) Need for Project. The applicant's presentation of the need for the project, including incidence of adolescent pregnancy, sexually transmitted infections, a description of socio-economic conditions, existing services and unmet needs in the proposed service area. If the proposed population has unique challenges and barriers, the applicant's description of these challenges and barriers should be addressed here. (10 points)

(4) Target Population. The applicant's clear description of the target population to be served, including estimated number and types of participants to be served in the first year. In addition, the applicant must demonstrate the program staff's responsiveness in effectively serving the target population, including staff training. The recruitment and retention plan of the target population should be detailed and realistic. Incentive strategies and tracking mechanisms for participants who may drop out of the project should also be adequately addressed. (10 points)

(5) Program Capacity and Past Experience. The applicant's clear description of the capacity to implement the program, including personnel and other resources. The applicant's presentation of experience and expertise in providing programs for youth as related to capacity and how it is linked to the rationale behind the proposed demonstration model. (10 points)

(6) Community Support. The applicant's clear description of the community commitment to, and involvement in, planning and implementation of the project, as demonstrated by letters of commitment and willingness to participate in the project's implementation, acceptance of referrals, etc. The applicant should clearly present commitment and/or memorandums of agreement from proposed project partners in the appendices. (10 points)

Please note, the order of the above criteria is based on the score weight of each criteria and is not indicative of how the program narrative should be arranged. Please see the application kit for instructions on how to arrange the narrative.

2. Review and Selection Process

Final grant award decisions will be made by the Deputy Assistant Secretary for Population Affairs (DASPA). In making these decisions, the DASPA will take into account the extent to which applications recommended for approval will provide appropriate geographic distribution of resources, the priorities in sec. 2005(a), and other factors including:

(1) Recommendations and scores submitted by the external review panel;

(2) Internal review of application by Federal staff;

(3) The geographic area to be served including the reasonableness of the estimated cost of the project based on factors such as the incidence of adolescent pregnancy and Sexually Transmitted Diseases (STDs) in the geographic area to be served and the availability of services for adolescents in this geographic area; and

(4) The adequacy of the evaluation plan as detailed in the evaluation criteria listed in the “Evaluation” section of this announcement and the demonstrated ability to participate successfully in the AFL cross-site evaluation.

Special consideration may be granted to areas of the country with high need and lack of resources, as well as populations not currently receiving Title XX funding for prevention programs. The DASPA has the discretion not to fund applicants in States or areas of the country that are already funded under the Title XX program. If there are multiple applicants in one State, agency collaboration is encouraged. Please note, the DASPA may elect to award one grant per State.

3. Anticipated Announcement and Award

The OAPP anticipates announcing and awarding grantees under this announcement by September 1, 2007.

VI. Award Administration Information

1. Award Notices

The OAPP does not release information about individual applications during the review process until final funding decisions have been made. When these decisions have been made, the applicant's authorized representative will be notified of the outcome of their application by postal mail. The official document notifying an applicant that the application has been approved for funding is the Notice of Grant Award, signed by the Grants Management Officer, which specifies to the grantee the amount of money awarded, the purposes of the grant, the length of the project period, terms and conditions of the grant award, and the amount of funding to be contributed by the grantee to project costs.

2. Administrative and National Policy Requirements

The regulations set out at 45 CFR parts 74 and 92 are the Department of Health and Human Services (HHS) rules and requirements that govern the administration of grants. Part 74 is applicable to all recipients except those covered by Part 92, which governs awards to State and local governments. Applicants funded under this announcement must be aware of and comply with these regulations. The CFR volume that includes parts 74 and 92 may be downloaded from http://www.access.gpo.gov/nara/cfr/waisidx_03/45cfrv1_03.html.

When issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

Applicants funded under this grant announcement will be required to electronically submit an End-of-Year Program, Evaluation and Financial report 90 days after the grant budget period ends. Grantees will report annually on program and evaluation progress using the AFL Prevention Demonstration Project End-of-Year Report template approved by the Office of Management and Budget (OMB 0990-300), available at http://opa.osophs.dhhs.gov/titlexx/eoy/eoy-prevention-report-template.pdf. Grantees are required to submit a continuation application to renew funding for the next budget period before the project period ends.

VII. Agency Contacts

Administrative and Budgetary Contacts Requirements

For application kits, submission of applications, and information on budget and business aspects of the application, please contact: WilDon Solutions, Office of Grants Management Operations Center, 1515 Wilson Blvd., Third Floor Suite 310, Arlington, VA 22209 at 1-888-203-6161, e-mail OPHSgrantinfo@teamwildon.com, or fax 703-351-1138.

Program Contacts Requirements

For information related to the OAPP program requirements, the OAPP staff are available at 240-453-2828 to answer questions and provide technical assistance on the preparation of grant applications. Questions may also be directed to OAPP staff via e-mail at oapp@hhs.gov. If contacting OAPP by e-mail, please include the phrase “AFL Prevention Question” in the subject heading.

VIII. Other Information

Protection of Human Subjects Regulations

The applicant must comply with the HHS Protection of Human Subjects regulations (which require obtaining Institutional Review Board approval), set out at 45 CFR part 46, if applicable. General information about Human Subjects regulations can be obtained through the Office for Human Research Protections (OHRP) at http://www.hhs.gov/ohrp, ohrp@osophs.dhhs.gov, or toll free at 866-447-4777.

Technical Assistance

The OAPP is committed to providing technical assistance to assist prospective applicants at no cost. The OAPP anticipates offering in-person technical assistance workshops at several locations across the country and two interactive on-line/teleconference workshops to provide such assistance. These one-day workshops will assist the public in learning more about the purposes and requirements of the Title XX program, the application process, budgeting information, and considerations that might help to improve the quality of grant applications. The OAPP encourages applicants to have appropriate agency staff members and a financial representative participate in one of the workshops. In order to participate in the online/teleconferencing workshops, participants must have a computer with internet access and a telephone. Participants will be able to ask questions and receive pertinent feedback during one of these workshops via the computer.

With respect to both the in-person and interactive online workshops, applicants should check the OPA Web site at http://opa.osophs.dhhs.gov. All participants must pre-register for the workshops using the form at http://opa/osophs.dhhs.gov. Participants that do not have access to the Internet may call the OAPP at 240-453-2828 to request a registration form. Written requests for registration forms may be faxed to 240-453-2829. Completed registration forms should be faxed to ATTN: OAPP RFA Workshop at 240-453-2829, or you may insert OAPP RFA Workshop into the subject line and e-mail the form to oapp@hhs.gov. Upon receipt of the applicant's request, the specific workshop information and logistical information will be faxed or emailed for the workshop specified by the participant.

The OAPP anticipates conducting four in-person technical workshops as well as two live interactive online workshops in April, 2007. If a prospective applicant cannot attend the live or interactive online workshops, the transcripts of the online workshops will be available online at http://opa.osophs.dhhs.gov until the closing of this announcement. Applicants should visit the OPA Web site http://opa.osophs.dhhs.gov for further information on location, dates, and times or call 240-453-2828.

Annual Conference and Regional Technical Assistance Training

Each year, the OAPP hosts an annual grantee conference for prevention demonstration grantees. The Terms and Conditions of the Notice of Grant Award specifies that the Project Director and Evaluator are expected to attend the annual conference. In addition, the OAPP offers technical assistance and training to improve the caliber of professionalism of front-line staff. The Project Director, Evaluator and front-line staff are expected to participate in OAPP sponsored technical assistance workshops.

Evaluation Dissemination and Publishing

The OAPP anticipates that all Prevention demonstration grantees will disseminate and publish information about their projects, including in peer-reviewed journals, by or shortly after the 5th year. When selecting an evaluator, he/she should have experience publishing and presenting at professional conferences. The evaluator should also have the college/university support to disseminate such findings to the field.

Dated: March 26, 2007.
Evelyn M. Kappeler,
Acting Deputy Director, Office of Population Affairs.

[FR Doc. 07-1585 Filed 3-30-07; 8:45 am]

BILLING CODE 4150-30-P